DEPARTMENT OF DEFENSE

Department of the Army

Intent To Grant an Exclusive License of U.S. Government-Owned Patent

AGENCY: Department of the Army, DoD.

ACTION: Notice.

SUMMARY: In accordance with 35 U.S.C. 209(e) and 37 CFR 404.7(a)(1)(i), announcement is made of the intent to grant an exclusive, royalty-bearing, revocable license to U.S. Patents 7,899,687; 8,510,129; and 8,682,692; issued respectively on March 1, 2011, August 13, 2013 and March 25, 2014, entitled respectively “System and method for handling medical information,” “Medical information handling system and method,” and “Medical information handling method, and foreign patents derived from PCT Application PCT/US03/15071 filed on May 15, 2003, entitled “System and method for handling medical information” to Vista Partners, LLC, with its principal place of business at Hanger 9B2, 7375 South Peoria, Englewood, CO 80112-4157.

ADDRESSES: Commander, U.S. Army Medical Research and Materiel Command, ATTN: Command Judge Advocate, MCMR-JA, 504 Scott Street, Fort Detrick, MD 21702-5012.

FOR FURTHER INFORMATION CONTACT: For licensing issues, Mr. Barry Datlof, Office of Research & Technology Assessment, (301) 619-0033. For patent issues, Ms. Elizabeth Arwine, Patent Attorney, (301) 619-7808, both at telefax (301) 619-5034.

SUPPLEMENTARY INFORMATION: Anyone wishing to object to grant of this license can file written objections along with supporting evidence, if any, within 15 days from the date of this publication. Written objections are to be filed with the Command Judge Advocate (see ADDRESSES).

Brenda S. Bowen,
Army Federal Register Liaison Officer.

[FR Doc. 2014-30457 Filed 12-29-14; 8:45 am]

BILLING CODE 3710-08-P